DEPARTMENT OF AGRICULTURE

Animal and Plant Health Inspection Service

[Docket No. APHIS-2006-0184]

Public Meeting; Veterinary Biologics

AGENCY: Animal and Plant Health Inspection Service, USDA.

ACTION: Notice of cancellation of public meeting.

SUMMARY: We are advising producers and users of veterinary biological products, and other interested individuals, that the 14th public meeting on veterinary biologics previously scheduled to be held on March 28 and 29, 2007, is canceled.

FOR FURTHER INFORMATION CONTACT: Dr. Byron E. Rippke, Director, Policy, Evaluation, and Licensing, Center for Veterinary Biologics, Veterinary Services, APHIS, 510 South 17th Street, Suite 104, Ames, IA 50010-8197; phone (515) 232-5785, fax (515) 232-7120, or e-mail CVB@aphis.usda.gov.

SUPPLEMENTARY INFORMATION: In a document published in the Federal Register on December 1, 2006 (71 FR 69530, Docket No. APHIS-2006-0184), we gave notice that we would be holding a public meeting on Wednesday, March 28, and Thursday, March 29, 2007, in the Scheman Building at the Iowa State Center, Iowa State University, Ames, IA. The purpose of the meeting was to provide an opportunity for the exchange of information between APHIS representatives, producers and users of veterinary biological products, and other interested individuals. Due to circumstances beyond our control, we are forced to cancel the meeting. We regret any inconvenience caused by the cancellation.

Done in Washington, DC, this 25th day of January 2007.
Kevin Shea,
Acting Administrator, Animal and Plant Health Inspection Service.

[FR Doc. E7-1529 Filed 1-30-07; 8:45 am]

BILLING CODE 3410-34-P